DEPARTMENT OF TRANSPORTATION

Federal Highway Administration

Hood River-White Salmon Bridge Replacement Project; Notice of Intent To Prepare a Supplemental Draft Environmental Impact Statement

AGENCY: Federal Highway Administration, DOT.

ACTION: Notice of intent.

SUMMARY: The Federal Highway Administration (FHWA) is issuing this notice to advise that a Supplemental Draft Environmental Impact Statement will be prepared for a proposed bridge replacement project of the Hood River-White Salmon Bridge across the Columbia River between Hood River, Oregon and White Salmon, Washington.

FOR FURTHER INFORMATION CONTACT: Emily Cline, Federal Highway Administration, 530 Center Street NE, Suite 420, Salem, OR 97301; Telephone: (503) 316-2547 or Kevin Greenwood, Port of Hood River, 1000 E Port Marina Drive, Hood River, OR 97031; Telephone: (541) 436-0797.

SUPPLEMENTARY INFORMATION: FHWA, with the Port of Hood River (the Port) and the Oregon Department of Transportation (ODOT) as joint lead agencies, will prepare a Supplemental Draft Environmental Impact Statement (EIS) for the Hood River-White Salmon Bridge Replacement Project (formerly named the SR-35 Columbia River Crossing Project) to replace the existing Hood River-White Salmon Bridge between Hood River, Oregon, and White Salmon, Washington. The primary purpose of this project is to improve multi-modal transportation of people and goods across the Columbia River between the Hood River and White Salmon/Bingen communities by replacing the existing Hood River-White Salmon bridge. The need for the project is to rectify current and future transportation and structural inadequacies and deficiencies of the bridge.

The SR-35 Columbia River Crossing Draft EIS was issued in December 2003. The Draft EIS evaluated four alternatives, including the no action alternative, and documented the project's impacts and benefits to the community and environment and identified a preliminary preferred alternative. All build alternatives would replace the existing movable span bridge with a fixed span bridge, retain the current two travel lanes on the bridge, add shoulders, add a pedestrian and bicycle facility, resolve all height, width and weight restrictions currently in place on the existing bridge, and provide a wider clearance for navigation. The Draft EIS disclosed proposed measures to avoid, minimize, or mitigate impacts to the community and environment, summarized agency and public engagement to date, and described how and when the public and agencies could submit comments. The 45-day comment period included a public open house/hearing on January 22, 2004. The environmental review phase of the project was put on hold shortly after the comment period ended.

In 2017, the Port of Hood River secured state funding (Oregon House Bill 2017) to continue the bridge replacement project and complete the environmental review process in compliance with the National Environmental Policy Act (NEPA). The Port of Hood River restarted the project in 2018, including holding a public open house on December 10, 2018 and an online survey conducted through January 31, 2019. Attendees and survey respondents indicated continued support for the project and the previously identified purpose and need statement, range of alternatives, and preliminary preferred alternative.

The Supplemental Draft EIS will provide updated information on the affected environment, environmental consequences, and mitigation measures for the same alternatives studied in the 2003 Draft EIS; coordination activities and input from Federal, State and local agencies; consultation with Tribes; and public involvement. The Supplemental Draft EIS will be available for public and agency review and comment prior to a public hearing.

Authority: 23 U.S.C. 315; 49 CFR 1.48.

Issued On: May 15, 2019.
Phillip A. Ditzler,
Division Administrator, Federal Highway Administration, Oregon Division.

[FR Doc. 2019-10770 Filed 5-22-19; 8:45 am]

BILLING CODE P